DEPARTMENT OF THE TREASURY

Internal Revenue Service

Open Meeting of the Multilingual Initiative (MLI) Issue Committee of the Taxpayer Advocacy Panel

AGENCY: Internal Revenue Service (IRS), Treasury.

ACTION: Notice.

SUMMARY: An open meeting of the Multilingual Initiative (MLI) Issue Committee of the Taxpayer Advocacy Panel will be conducted in Washington, DC, The Taxpayer Advocacy Panel is soliciting public comments, ideas, and suggestions on improving customer service at the Internal Revenue Service.

DATES: The meeting will be held June 24 and 25, 2005.

FOR FURTHER INFORMATION CONTACT: Inez E. De Jesus at 1-888-912-1227, or 954-423-7977.

SUPPLEMENTARY INFORMATION: Notice is hereby given pursuant to section 10(a)(2) of the Federal Advisory Committee Act, 5 U.S.C. App. (1988) that an open meeting of the Multilingual Initiative Issue Committee of the Taxpayer Advocacy Panel will be held in Washington, DC, Friday, June 24, 2005, from 8 a.m. to 4:30 p.m. ET and Saturday, June 25, 2005, from 8 a.m. to 12 p.m. ET. In Washington, DC at One Washington Circle Hotel, Washington, DC. For information or to confirm attendance, notification of intent to attend the meeting must be made with Inez E. De Jesus. Ms. De Jesus may be reached at 1-888-912-1227 or 954-423-7977, or write Inez De Jesus, Taxpayer Advocacy Panel, 1000 South Pine Island Road, Suite 340, Plantation, FL 33324, or post comments to the Web site: http://www.improveirs.org.

The agenda will include the following: Various IRS issues.

Dated: May 20, 2005.
Maryclare Whitehead,
Acting Director, Taxpayer Advocacy Panel.

[FR Doc. E5-2718 Filed 5-27-05; 8:45 am]

BILLING CODE 4830-01-P